DEPARTMENT OF AGRICULTURE

Submission for OMB Emergency Review: Hawaii Agricultural Disaster Survey

AGENCY: National Agricultural Statistics Service, USDA

ACTION: 5-Day emergency information collection notice.

SUMMARY: The National Agricultural Statistics Service, Department of Agriculture (NASS) submitted a request to the Office of Management and Budget (OMB) for emergency clearance and review for the Hawaii Agricultural Disaster Survey. As required by the Paperwork Reduction Act of 1995, NASS is soliciting comments for this collection.

DATES: Comments on this proposal for emergency review should be received within October 10, 2023. We are requesting OMB to act within 5 calendar days from the close of this Federal Register Notice on the request for emergency review.

ADDRESSES:

• Email: ombofficer@nass.usda.gov. Include the docket number above in the subject line of the message.

• Efax: (855) 838-6382.

• Mail: Mail any paper, disk, or CD-ROM submissions to: Richard Hopper, NASS Clearance Officer, U.S. Department of Agriculture, Room 5336 South Building, 1400 Independence Avenue SW, Washington, DC 20250-2024.

• Hand Delivery/Courier: Hand deliver to: Richard Hopper, NASS Clearance Officer, U.S. Department of Agriculture, Room 5336 South Building, 1400 Independence Avenue SW, Washington, DC 20250-2024.

SUPPLEMENTARY INFORMATION: The primary objectives of the National Agricultural Statistics Service (NASS) are to prepare and issue official State and national estimates of crop and livestock production, disposition and prices, economic statistics, and environmental statistics related to agriculture and to conduct the Census of Agriculture and its follow-on surveys. Starting on August 8, 2023, areas on the islands of Hawaii, Maui, and Molokai experienced damages from wildfires and high winds. Wildfires destroyed much of the city of Lahaina which was the location of agricultural sales and agritourism activities. Though some farms received physical damage from the wildfires and high winds, many others were impacted by the loss of markets and agritourism income. The Hawaii Department of Agriculture (HDOA) requested USDA-NASS to conduct a disaster survey to account for loss of crops/livestock, loss of commodity/product sales, damaged equipment, farm structures, other infrastructure, seeds, etc. This survey is to be conducted to ascertain the extent of economic losses (reduce revenue from sales of agricultural products and agritourism), damages on an acreage/livestock basis, (including livestock culling), agricultural infrastructure (buildings, equipment, irrigation, fencing, etc.), impact on agricultural workers. Response to the survey is voluntary.

General authority for these data collection activities is granted under U.S.C. Title 7, Section 2204.

This information collection request contains:

Agency: National Agricultural Statistics Service, Department of Agriculture.

Title: 2023 Hawaii Agricultural Disaster Survey, NASS.

OMB Number: 0535-NEW.

Frequency: One Time.

Affected Public: Farmers, ranchers, farm managers, farm contractors, and farm households.

Number of Respondents: 1,300.

Estimated Time per Respondent: 20 minutes.

Total Burden Hours: 450 hours.

Signed at Washington, DC, September 27, 2023.
Kevin L. Barnes,
Associate Administrator, National Agricultural Statistics Service.

[FR Doc. 2023-22178 Filed 10-4-23; 8:45 am]

BILLING CODE 3410-20-P